DEPARTMENT OF ENERGY

Federal Energy Regulatory Commission

[IC09-725-000]

Commission Information Collection Activities (FERC-725); Proposed Collection; Comment Request; Extension

February 4, 2009.

AGENCY: Federal Energy Regulatory Commission.

ACTION: Notice.

SUMMARY: In compliance with the requirements of section 3507 of the Paperwork Reduction Act of 1995, 44 U.S.C. 3507, the Federal Energy Regulatory Commission (Commission) is soliciting public comment on the specific aspects of the information collection described below.

DATES: Comments on the information collection are due by April 14, 2009.

ADDRESSES: An example of this collection of information may be obtained from the Commission's Web site (at http://www.ferc.gov/docs-filing/elibrary.asp). Comments may be filed either electronically or in paper format, and should refer to Docket No. IC09-725-000. Documents must be prepared in an acceptable filing format and in compliance with the Federal Energy Regulatory Commission submission guidelines at http://www.ferc.gov/help/submission-guide.asp.

Comments may be filed electronically via the eFiling link on the Commission's Web site at http://www.ferc.gov. First time users will have to establish a user name and password (http://www.ferc.gov/docs-filing/eregistration.asp) before eFiling. The Commission will send an automatic acknowledgement to the sender's e-mail address upon receipt of comments through eFiling.

Commenters filing electronically should not make a paper filing. Commenters that are not able to file electronically must send an original and 14 copies of their comments to: Federal Energy Regulatory Commission, Secretary of the Commission, 888 First Street, NE., Washington, DC 20426.

Users interested in receiving automatic notification of activity in this docket may do so through eSubscription (at http://www.ferc.gov/docs-filing/esubscription.asp). In addition, all comments and FERC issuances may be viewed, printed, or downloaded remotely through FERC's Web site using the “eLibrary” link and searching on Docket Number IC09-725. For user assistance, contact FERC Online Support (e-mail at ferconlinesupport@ferc.gov, or call toll-free at (866) 208-3676, or for TTY, contact (202) 502-8659).

FOR FURTHER INFORMATION CONTACT: Michael Miller, Federal Energy Regulatory Commission, 888 First St., NE., Washington, DC 20426. He may be reached by telephone at (202) 502-8415, by fax at (202) 273-0873, and by e-mail at michael.miller@ferc.gov.

SUPPLEMENTARY INFORMATION: The information collected under the requirements of FERC-725 (“Certification of Electric Reliability Organization; Procedures for Electric Reliability Standards” (OMB Control No. 1902-0225)) is used by the Commission to implement the statutory provisions of Title XII, subtitle A of the Energy Policy Act of 2005 (EPAct 2005).¹

¹ Energy Policy Act of 2005, Pub. L. No. 109-58, 119 Stat. 594 (2005) (codified at 42 U.S.C. 16451, et seq.)

The Electricity Modernization Act of 2005 was enacted into law as part of the Energy Policy Act of 2005 on August 8, 2005. Subtitle A of the Electricity Modernization Act amended the Federal Power Act (FPA) by adding a new section 215, titled “Electric Reliability.” Section 215 of the FPA buttresses the Commission's efforts to strengthen the reliability of the interstate grid through the granting of new authority to provide for a system of mandatory Reliability Standards developed by the Electric Reliability Organization (ERO) ² and reviewed and approved by FERC.

² “Electric Reliability Organization” or “ERO” means the organization certified by the Commission the purpose of which is to establish and enforce Reliability Standards for the Bulk-Power System, subject to Commission review.

On February 3, 2006, the Commission issued Order No.672 ³ certifying a single Electric Reliability Organization, the ERO, to oversee the reliability of the United States' portion of the interconnected North American Bulk-Power System, subject to Commission oversight. The ERO is responsible for developing and enforcing the mandatory Reliability Standards. The Reliability Standards apply to all users, owners and operators of the Bulk-Power System. The Commission has the authority to approve all ERO actions, to order the ERO to carry out its responsibilities under these statutory provisions, and to also as appropriate independently enforce Reliability Standards.

³ Rules Concerning Certification of the Electric Reliability Organization; and Procedures for the Establishment, Approval, and Enforcement of Electric Reliability Standards ¶ 31,204 71 FR 8662 (2006) Order on reh'g, 71 FR 19,814 (2006), FERC Statutes and Regulations ¶ 31,212 (2006).

Once certified, the ERO must submit each proposed Reliability Standard to the Commission for approval. Only a Reliability Standard approved by the Commission is enforceable under section 215 of the FPA.

The ERO may delegate its enforcement responsibilities to a Regional Entity. Delegation is effective only after the Commission approves the delegation agreement. A Regional Entity may also propose a Reliability Standard to the ERO for submission to the Commission for approval. This Reliability Standard may be either for application to the entire interconnected Bulk-Power System or for application only within its own region.

The ERO or a Regional Entity must monitor compliance with the Reliability Standards. It will direct a user, owner or operator of the Bulk-Power System that violates a Reliability Standard to comply with the Reliability Standard. The ERO or Regional Entity may impose a penalty on a user, owner or operator for violating a Reliability Standard, subject to review by, and appeal to, the Commission.

Subtitle A of the Electricity Modernization Act of 2005 also includes two reliability-related provisions that are not part of the section 215 of the FPA. First section 1211(b) of the Act provides that the ERO certified by the Commission as well as Regional Entities are not departments, agencies or instrumentalities of the United States Government. Section 1211 (c) provides that federal agencies responsible for approving access to electric transmission or distribution facilities located on lands within the United States will, in accordance with applicable law, expedite any federal agency approvals that are necessary to allow the owners or operators of these facilities to comply with a FERC-approved Reliability Standard that pertains to vegetation management, electric service restoration, or resolution of situations that imminently endanger the reliability or safety of the facilities.

Order No. 672 set forth the criteria that an ERO applicant must satisfy to qualify as the ERO, including the ability to develop and enforce Reliability Standards.⁴ The ERO submission must include an evaluation of the effectiveness of each Regional Entity. The Commission will, as part of its assessment of the ERO's performance, assess the performance of each Regional Entity and issue an order addressing Regional Entity compliance. If a Regional Entity fails to comply adequately with the Commission order, the Commission may institute a proceeding to enforce its order, including, if necessary and appropriate, a proceeding to consider rescission of the Commission's approval of the Regional Entity's delegation agreement.

⁴ The criteria stated in the Final Rule track the statutory criteria for ERO certification provided in section 215(c) of the FPA.

The Electricity Modernization Act of 2005 buttresses the Commission's efforts to strengthen the interstate transmission grid through the granting of authority pursuant to section 215 of the FPA which provides for a system of mandatory reliability rules developed by the ERO, established by the Commission, and enforced by the Commission, subject to Commission review.

A submission of the information is necessary for the Commission to carry out its responsibilities under EPAct 2005.⁵ The Commission implements its responsibilities through the Code of Federal Regulations, 18 CFR Part 39. These filing requirements are mandatory.

⁵ 42 U.S.C. 16451 et seq.

Action: The Commission is requesting a three-year extension of the current expiration date without any changes to the reporting requirements.

Burden Statement: The annual public reporting burden and cost for this collection are estimated as follows:

⁶ The burden and cost estimates do not include the cost of applying to become the ERO because that application process and the resulting FERC selection have been completed.

⁷ Per Order 672, the ERO will undergo a performance assessment three years after certification (July 2009) and every five years thereafter. Therefore, the total figures for FTE (10), burden hrs. (9,800), and cost ($1,050,000) associated with doing the self-assessment have been divided by 3 to provide average annual figures for this notice.

The methodology for estimating the totals for the 3-year self assessment follows. Staff estimates that the self assessment will take 6 months to complete. In order for NERC to complete the work in half the time, we assume that NERC must hire double the workforce, so 10 contractors are used in the present calculation. The $1,050,000 was taken directly from NERC's 2009 Business Plan and Budget.

⁸ NERC Employee Cost Estimate: NERC Employee Compensation Average is $140,442 (from 2009 Budget salary average). For 1.5 Employees, the Annualized Salary Expense is $210,663.

⁹ Regional Entity (RE) Employee Cost Estimate: RE Employee Compensation Average of $115,520 (from 2009 Budget salary average). For 4.5 Employees, the Annualized Salary Expense is $519,840.

FERC-725 ⁶ |  |  | FTE | Est. annual burden (hrs.) | Est. annual cost ($)
Annual NERC Costs | 3 Year Self Assessment (Due 7/09) ⁷ | Contractor | 3.33 ⁷ | 3,266.67 ⁷ | 350,000 ⁷
| Reliability Reporting Estimate ⁸ | Internal | 1.5 | 2,940 | 210,663
| Estimate | Software | 0 | 0 | 75,000
Total Annual NERC Costs | 4.83 | 6,206.67 | 635,663
Annual RE Costs ⁹ | Reliability Reporting Estimate | Internal | 4.5 | 8,820 | 519,840
| Estimate | Software | 0 | 0 | 225,000
Total Annual RE Costs | 4.5 | 8,820 | 744,840
Total Annual Burden & Cost Estimate | 9.33 | 15,026.67 | $1,380,503

The estimated annual total cost to respondents is $1,380,503 ⁷,⁸,⁹ (including direct labor, overhead costs to prepare the application, and consultation to obtain specialized advice in responding to and implementing the certification application).

The reporting burden includes the total time, effort, or financial resources expended to generate, maintain, retain, disclose, or provide the information including: (1) Reviewing instructions; (2) developing, acquiring, installing, and utilizing technology and systems for the purposes of collecting, validating, verifying, processing, maintaining, disclosing and providing information; (3) training personnel to respond to an information collection; (4) searching data sources; (5) preparing and reviewing the information collection; and (6) transmitting or otherwise disclosing the information.

The estimate of cost for respondents is based upon salaries for professional and clerical support, as well as direct and indirect or overhead costs. Direct costs include all costs directly attributable to providing this information, such as administrative costs and the cost for information technology. Indirect or overhead costs are costs incurred by an organization in support of its mission. These costs apply to activities which benefit the whole organization rather than any one particular function or activity.

Comments are invited on: (1) Whether the proposed collection of information is necessary for the proper performance of the functions of the Commission, including whether the information will have practical utility; (2) the accuracy of the agency's estimate of the burden of the proposed collection of information, including the validity of the methodology and assumptions used; (3) ways to enhance the quality, utility and clarity of the information to be collected; and (4) ways to minimize the burden of the collection of information on those who are to respond, including the use of appropriate automated, electronic, mechanical, or other technological collection techniques or other forms of information technology.

Kimberly D. Bose,
Secretary.

[FR Doc. E9-2868 Filed 2-10-09; 8:45 am]

BILLING CODE 6717-01-P